NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on April 5-8, 2006, 11545 Rockville Pike, Rockville, Maryland. The date of this meeting was previously published in the Federal Register on Tuesday, November 22, 2005 (70 FR 70638).

Wednesday, April 5, 2006, Conference Room T-8E8, Two White Flint North, Rockville, Maryland

1:30 p.m.-6 p.m.: Safeguards and Security Matters (Closed)—The Committee will hear presentations by and hold discuss with representatives of the NRC staff regarding safeguards and security matters.

Note: This session will be closed to protect information classified as national security as well as safeguards information pursuant to 5 U.S.C. 552b( c) (1) and (3).

Thursday, April 6, 2006, Conference Room T-2B3, Two White Flint North, Rockville, Maryland

8:30 a.m.-8:35 a.m.: Opening Remarks by the ACRS Chairman (Open)—The ACRS Chairman will make opening remarks regarding the conduct of the meeting.

8:35 a.m.-10 a.m.: Draft Final Regulatory Guide, “Risk-Informed, Performance-Based Fire Protection for Existing Light Water Nuclear Power Plants” (Open)—The Committee will hear presentations by and hold discussions with representatives of the NRC staff regarding draft final Regulatory Guide, “Risk-Informed, Performance-Based Fire Protection for Existing Light Water Nuclear Power Plants,” and related matters.

10:15 a.m.-12:15 p.m.: Safety Conscious Work Environment/Safety Culture (Open)—The Committee will hear presentations by and hold discussions with representatives of the NRC staff regarding staff activities associated with responding to the Commission's Staff Requirements Memorandum on Safety Conscious Work Environment/Safety Culture, and related matters.

1:15 p.m.-2:15 p.m.: Hazards Analysis Associated with the Grand Gulf Early Site Permit Application and the Associated NRC Staff's Evaluation (Open)—The Committee will hear presentations by and hold discussions with representatives of the NRC staff, and System Energy Resources, Inc. as needed, regarding the hazards analysis associated with the Grand Gulf Early Site Permit Application and the associated NRC staff's evaluation.

2:30 p.m.-4:30 p.m.: Application of TRACG Code to ESBWR Stability (Open/Closed)—The Committee will hear presentations by and hold discussions with representatives of the NRC staff and General Electric Nuclear Energy regarding application of the TRACG Code for analyzing the Economic Simplified Boiling Water Reactor (ESBWR) Stability.

Note: A portion of this session may be closed to discuss General Electric proprietary information pursuant to pursuant to 5 U.S.C. 552b(c)(4).

4:45 p.m.-6:45 p.m.: Preparation of ACRS Reports (Open)—The Committee will discuss proposed ACRS reports on matters considered during this meeting.

Friday, April 7, 2006, Conference Room T-2B3, Two White Flint North, Rockville, Maryland

8:30 a.m.-8:35 a.m.: Opening Remarks by the ACRS Chairman (Open)—The ACRS Chairman will make opening remarks regarding the conduct of the meeting.

8:35 a.m.-10 a.m.: Review of 1994 Addenda for Class 1, 2, and 3 Piping Systems to the ASME Code Section III and the Resolution of the Differences Between the Staff and ASME (Open)—The Committee will hear presentations by and hold discussions with representatives of the NRC staff and the American Society of Mechanical Engineers (ASME) regarding the 1994 Addenda for Class 1, 2, and 3 Piping Systems to the ASME Code Section III and the resolution of differences between the NRC staff and ASME.

10:15 a.m.-10:45 a.m.: Subcommittee Reports (Open)—The Committee will hear reports by and hold discussions with the cognizant Chairman of the ACRS Subcommittees regarding: interim review of the Nine Mile Point license renewal application and the associated NRC staff's draft Safety Evaluation Report; and interim review of the Ginna core power uprate application and the associated NRC staff's Safety Evaluation.

10:45 a.m.-11:45 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

11:45 a.m.-12 noon: Reconciliation of ACRS Comments and Recommendations (Open)—The Committee will discuss the responses from the NRC Executive Director for Operations to comments and recommendations included in recent ACRS reports and letters.

1 p.m.-1:30 p.m.: Quality Assessment of Selected NRC Research Projects (Open)—The Committee will select projects and make assignments for assessing the quality of the selected research projects. 1:30 p.m.-6:30 p.m.: Preparation of ACRS Reports (Open)—The Committee will discuss proposed ACRS reports.

Saturday, April 8, 2006, Conference Room T-2B3, Two White Flint North, Rockville, Maryland

8:30 a.m.-12:30 p.m.: Preparation of ACRS Reports (Open)—The Committee will continue its discussion of proposed ACRS reports.

12:30 p.m.-1 p.m.: Miscellaneous (Open)—The Committee will discuss matters related to the conduct of Committee activities and matters and specific issues that were not completed during previous meetings, as time and availability of information permit.

Procedures for the conduct of and participation in ACRS meetings were published in the Federal Register on September 29, 2005 (70 FR 56936). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) P.L. 92-463, I have determined that it may be necessary to close portions of this meeting noted above to discuss and protect information classified as national security information as well as safeguards information pursuant to 5 U.S.C. 552b(c)(1) and (3), and General Electric proprietary information pursuant to 5 U.S.C. 552b(c)(4).

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: March 16, 2006.
Andrew L. Bates,
Advisory Committee Management Officer.

[FR Doc. E6-4193 Filed 3-22-06; 8:45 am]

BILLING CODE 7590-01-P